DEPARTMENT OF COMMERCE

National Oceanic and Atmospheric Administration

Notice of Availability of a Draft Environmental Assessment and Public Comment for a Proposed Boundary Expansion for the Elkhorn Slough National Estuarine Research Reserve

AGENCY: Office for Coastal Management, National Ocean Service, National Oceanic and Atmospheric Administration, U.S. Department of Commerce.

ACTION: Notice of proposed boundary expansion and availability of a draft environmental assessment; request for comments.

SUMMARY: The National Oceanic and Atmospheric Administration (NOAA) is considering a request to amend the boundary of the Elkhorn Slough National Estuarine Research Reserve (Elkhorn Slough NERR or the Reserve) and is soliciting comments from the public on the proposed boundary expansion. The public is also invited to comment on the draft environmental assessment for the proposed boundary expansion. Any person wishing to comment on the proposed boundary expansion or the environmental assessment may submit comments as described under ADDRESSES below.

DATES: Written comments must be received at the appropriate address (see ADDRESSES) on or before November 27, 2019.

ADDRESSES: The draft environmental assessment can be downloaded or viewed at coast.noaa.gov/czm/compliance/. The document is also available by sending a written request to the point of contact identified below (see FOR FURTHER INFORMATION).

You may submit comments by any of the following methods:

Electronic Submission: Submit all electronic public comments by email to Elaine.Vaudreuil@noaa.gov.

Mail: Submit written comments to Elaine Vaudreuil, Office for Coastal Management, NOAA Ocean Service, 1305 East-West Hwy., N/OCM, Silver Spring, MD 20910.

Comments submitted by any other method or after the comment period may not be considered. All comments are a part of the public record and may be publicly accessible. Any personal identifying information (e.g., name, address) submitted voluntarily by the sender may also be accessible. NOAA will accept anonymous comments.

FOR FURTHER INFORMATION CONTACT: Elaine Vaudreuil of NOAA's Office for Coastal Management, by email at Elaine.Vaudreuil@noaa.gov, phone at 240-533-0821, or mail at: 1305 East-West Hwy., N/OCM, Silver Spring, MD 20910

SUPPLEMENTARY INFORMATION:

I. Background

The California Department of Fish and Wildlife, as lead agency for managing the Elkhorn Slough NERR, has requested approval to expand the geographic boundary of the Reserve by adding nine new parcels to and removing a 13.98-acre area from the existing approved boundary. Pursuant to 15 CFR 921.33(a), NOAA may require public notice, including notice in the Federal Register and an opportunity for public comment before approving a boundary or management plan change. In addition, boundary changes involving the acquisition of properties not listed in the reserve's original management plan or final environmental impact statement (EIS) require public notice and the opportunity for comment. Five of the new parcels were included in the reserve's original EIS (1979). However, since four of the new parcels were not evaluated in the original EIS, NOAA has developed an environmental assessment to analyze the potential effects of the requested change to the Reserve boundary and is publishing notice of the availability of this assessment for public review and comment on the proposed boundary expansion and associated environmental assessment.

II. NOAA Proposed Action and Alternatives

NOAA is releasing a draft environmental assessment, prepared in accordance with the National Environmental Policy Act (NEPA) of 1969, as amended, 42 U.S.C. 4321 et seq., and the Council on Environmental Quality Regulations for Implementing the Procedural Provisions of NEPA (40 CFR 1500-1508). NOAA's proposed action is to approve a change in the management boundary of the Elkhorn Slough NERR to add nine parcels (totaling 313.753 acres) acquired since 2007 and remove one 13.98-acre parcel from the approved boundary.

The draft environmental assessment identifies and assesses potential environmental impacts associated with the proposed boundary expansion, and identifies a preferred alternative and a no action alternative. The preferred alternative would add five parcels identified for future acquisition at the time of the reserve's designation in 1979, along with four additional parcels. It would also remove from the current Reserve boundary a 13.98-acre area containing a non-conforming use, which would result in a net increase in size of 299.773 acres. NOAA anticipates that the preferred alternative would (1) provide additional buffer around the reserve's core areas, (2) enable the reserve to manage the significant habitats on those properties, and where possible, restore habitats for the benefit of key species in the Elkhorn Slough watershed, and (3) expand research and education activities to the adjacent Moro Cojo Slough within the reserve's watershed. Therefore, NOAA prefers the proposed boundary expansion over the no action alternative.

Authority: 16 U.S.C. 1431 et seq.

Keelin S. Kuipers,
Deputy Director, Office for Coastal Management, National Ocean Service, National Oceanic and Atmospheric Administration.

[FR Doc. 2019-23466 Filed 10-25-19; 8:45 am]

BILLING CODE 3510-08-P